DEPARTMENT OF TRANSPORTATION

Federal Aviation Administration

14 CFR Part 97

[Docket No. 31194; Amdt. No. 3800]

Standard Instrument Approach Procedures, and Takeoff Minimums and Obstacle Departure Procedures; Miscellaneous Amendments

AGENCY: Federal Aviation Administration (FAA), DOT.

ACTION: Final rule.

SUMMARY: This rule amends, suspends, or removes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide for the safe and efficient use of the navigable airspace and to promote safe flight operations under instrument flight rules at the affected airports.

DATES: This rule is effective May 23, 2018. The compliance date for each SIAP, associated Takeoff Minimums, and ODP is specified in the amendatory provisions.

The incorporation by reference of certain publications listed in the regulations is approved by the Director of the Federal Register as of May 23, 2018.

ADDRESSES: Availability of matter incorporated by reference in the amendment is as follows:

For Examination

1. U.S. Department of Transportation, Docket Ops-M30, 1200 New Jersey Avenue SE, West Bldg., Ground Floor, Washington, DC, 20590-0001;

2. The FAA Air Traffic Organization Service Area in which the affected airport is located;

3. The office of Aeronautical Navigation Products, 6500 South MacArthur Blvd., Oklahoma City, OK 73169, or

4. The National Archives and Records Administration (NARA).

For information on the availability of this material at NARA, call 202-741-6030, or go to: http://www.archives.gov/federal_register/code_of_federal_regulations/ibr_locations.html.

Availability

All SIAPs and Takeoff Minimums and ODPs are available online free of charge. Visit the National Flight Data Center online at nfdc.faa.gov to register. Additionally, individual SIAP and Takeoff Minimums and ODP copies may be obtained from the FAA Air Traffic Organization Service Area in which the affected airport is located.

FOR FURTHER INFORMATION CONTACT: Thomas J. Nichols, Flight Procedure Standards Branch (AFS-420) Flight Technologies and Procedures Division, Flight Standards Service, Federal Aviation Administration, Mike Monroney Aeronautical Center, 6500 South MacArthur Blvd., Oklahoma City, OK 73169 Mail Address: P.O. Box 25082 Oklahoma City, OK 73125), telephone: (405) 954-4164.

SUPPLEMENTARY INFORMATION: This rule amends Title 14, Code of Federal Regulations, Part 97 (14 CFR part 97) by amending the referenced SIAPs. The complete regulatory description of each SIAP is listed on the appropriate FAA Form 8260, as modified by the National Flight Data Center (NFDC)/Permanent Notice to Airmen (P-NOTAM), and is incorporated by reference under 5 U.S.C. 552(a), 1 CFR part 51, and 14 CFR 97.20. The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained on FAA form documents is unnecessary.

This amendment provides the affected CFR sections, and specifies the SIAPs and Takeoff Minimums and ODPs with their applicable effective dates. This amendment also identifies the airport and its location, the procedure and the amendment number.

Availability and Summary of Material Incorporated by Reference

The material incorporated by reference is publicly available as listed in the ADDRESSES section.

The material incorporated by reference describes SIAPs, Takeoff Minimums and ODPs as identified in the amendatory language for part 97 of this final rule.

The Rule

This amendment to 14 CFR part 97 is effective upon publication of each separate SIAP and Takeoff Minimums and ODP as amended in the transmittal. For safety and timeliness of change considerations, this amendment incorporates only specific changes contained for each SIAP and Takeoff Minimums and ODP as modified by FDC permanent NOTAMs.

The SIAPs and Takeoff Minimums and ODPs, as modified by FDC permanent NOTAM, and contained in this amendment are based on the criteria contained in the U.S. Standard for Terminal Instrument Procedures (TERPS). In developing these changes to SIAPs and Takeoff Minimums and ODPs, the TERPS criteria were applied only to specific conditions existing at the affected airports. All SIAP amendments in this rule have been previously issued by the FAA in a FDC NOTAM as an emergency action of immediate flight safety relating directly to published aeronautical charts.

The circumstances that created the need for these SIAP and Takeoff Minimums and ODP amendments require making them effective in less than 30 days.

Because of the close and immediate relationship between these SIAPs, Takeoff Minimums and ODPs, and safety in air commerce, I find that notice and public procedure under 5 U.S.C. 553(b) are impracticable and contrary to the public interest and, where applicable, under 5 U.S.C. 553(d), good cause exists for making these SIAPs effective in less than 30 days.

The FAA has detrmined that this regulation only involves an established body of technical regulations for which frequent and routine amendments are necessary to keep them operationally current. It, therefore—(1) is not a “significant regulatory action” under Executive Order 12866;(2) is not a “significant rule” under DOT regulatory Policies and Procedures (44 FR 11034; February 26, 1979) ; and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, Navigation (air).

Issued in Washington, DC, on May 4, 2018.
John S. Duncan,
Executive Director, Flight Standards Service.

Adoption of the Amendment

Accordingly, pursuant to the authority delegated to me, Title 14, Code of Federal regulations, Part 97, (14 CFR part 97), is amended by amending Standard Instrument Approach Procedures and Takeoff Minimums and ODPs, effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

By amending: § 97.23 VOR, VOR/DME, VOR or TACAN, and VOR/DME or TACAN; § 97.25 LOC, LOC/DME, LDA, LDA/DME, SDF, SDF/DME; § 97.27 NDB, NDB/DME; § 97.29 ILS, ILS/DME, MLS, MLS/DME, MLS/RNAV; § 97.31 RADAR SIAPs; § 97.33 RNAV SIAPs; and § 97.35 COPTER SIAPs, Identified as follows:

* * * Effective Upon Publication

AIRAC date | State | City | Airport | FDC No. | FDC Date | Subject
21-Jun-18 | IA | Newton | Newton Muni-Earl Johnson Field | 7/1795 | 4/30/18 | RNAV (GPS) RWY 14, Amdt 1A.
21-Jun-18 | MO | New Madrid | County Memorial | 8/0236 | 4/30/18 | Takeoff Minimums and Obstacle DP, Amdt 1.
21-Jun-18 | IA | Chariton | Chariton Muni | 8/0759 | 4/23/18 | RNAV (GPS) RWY 10, Orig-A.
21-Jun-18 | IN | Anderson | Anderson Muni-Darlington Field | 8/0820 | 4/23/18 | RNAV (GPS) RWY 30, Orig-A.
21-Jun-18 | MD | Westminster | Carroll County Rgnl/Jack B Poage Field | 8/1811 | 4/23/18 | RNAV (GPS) RWY 34, Amdt 1A.
21-Jun-18 | NY | Binghamton | Greater Binghamton/Edwin A Link Field | 8/1814 | 4/23/18 | ILS OR LOC RWY 34, Amdt 4.
21-Jun-18 | GA | Atlanta | Atlanta Rgnl Falcon Field | 8/1817 | 4/23/18 | NDB RWY 31, Amdt 3B.
21-Jun-18 | WV | Lewisburg | Greenbrier Valley | 8/1887 | 4/23/18 | ILS OR LOC RWY 4, Amdt 11.
21-Jun-18 | OH | Youngstown | Youngstown Elser Metro | 8/1888 | 4/30/18 | VOR-C, Amdt 2A.
21-Jun-18 | OH | Youngstown | Youngstown Elser Metro | 8/1889 | 4/30/18 | RNAV (GPS) RWY 10, Orig-B.
21-Jun-18 | OH | Youngstown | Youngstown Elser Metro | 8/1890 | 4/30/18 | RNAV (GPS) RWY 28, Orig-B.
21-Jun-18 | NC | Elizabeth City | Elizabeth City CG Air Station/Rgnl | 8/3025 | 4/23/18 | VOR/DME RWY 19, Amdt 10F.
21-Jun-18 | IL | Moline | Quad City Intl | 8/3317 | 4/23/18 | ILS OR LOC RWY 9, Amdt 31C.
21-Jun-18 | MN | Caledonia | Houston County | 8/3385 | 4/30/18 | VOR/DME OR GPS-A, Amdt 3.
21-Jun-18 | PA | Doylestown | Doylestown | 8/3389 | 4/30/18 | RNAV (GPS) RWY 23, Amdt 1A.
21-Jun-18 | PA | Doylestown | Doylestown | 8/3390 | 4/30/18 | RNAV (GPS) RWY 5, Orig-A.
21-Jun-18. | PA | Doylestown | Doylestown | 8/3391 | 4/30/18 | VOR/DME RWY 23, Amdt 8A.
21-Jun-18 | AL | Montgomery | Montgomery Rgnl (Dannelly Field) | 8/3990 | 4/23/18 | RNAV (GPS) RWY 10, Amdt 1B.
21-Jun-18 | NE | Red Cloud | Red Cloud Muni | 8/4513 | 4/30/18 | RNAV (GPS) RWY 16, Orig-A.
21-Jun-18 | NC | Wadesboro | Anson County—Jeff Cloud Field | 8/4536 | 4/23/18 | Takeoff Minimums and Obstacle DP, Amdt 2.
21-Jun-18 | RI | Newport | Newport State | 8/4770 | 4/23/18 | LOC RWY 22, Amdt 7D.
21-Jun-18 | MI | Boyne Falls | Boyne Mountain | 8/5324 | 4/30/18 | RNAV (GPS) RWY 17, Orig.
21-Jun-18 | MI | Boyne Falls | Boyne Mountain | 8/5325 | 4/30/18 | RNAV (GPS) RWY 35, Orig.
21-Jun-18 | AZ | Mesa | Falcon Fld | 8/5418 | 4/30/18 | RNAV (GPS) RWY 4L, Amdt 1A.
21-Jun-18 | CA | Los Angeles | Los Angeles Intl | 8/5913 | 4/30/18 | RNAV (GPS) Y RWY 24L, Amdt 5A.
21-Jun-18 | CA | Los Angeles | Los Angeles Intl | 8/5914 | 4/30/18 | ILS OR LOC RWY 24L, Amdt 27B.
21-Jun-18 | IL | Springfield | Abraham Lincoln Capital | 8/5917 | 4/30/18 | ILS OR LOC RWY 4, Amdt 25G.
21-Jun-18 | PA | Pottstown | Pottstown Muni | 8/6273 | 4/23/18 | Takeoff Minimums and Obstacle DP, Amdt 2A.
21-Jun-18 | AL | Mobile | Mobile Rgnl | 8/6752 | 4/23/18 | RNAV (GPS) RWY 18, Amdt 1A.
21-Jun-18 | AL | Mobile | Mobile Rgnl | 8/6753 | 4/23/18 | RNAV (GPS) RWY 36, Amdt 1A.
21-Jun-18 | NJ | Princeton/Rocky Hill | Princeton | 8/7011 | 4/23/18 | RNAV (GPS) RWY 28, Orig-A.
21-Jun-18 | NC | Elizabeth City | Elizabeth City CG Air Station/Rgnl | 8/7274 | 4/23/18 | VOR/DME RWY 28, Amdt 1B.
21-Jun-18 | LA | New Orleans | Louis Armstrong New Orleans Intl | 8/7386 | 4/23/18 | ILS OR LOC RWY 2, Amdt 18.
21-Jun-18 | OH | Urbana | Grimes Field | 8/7454 | 4/23/18 | VOR-A, Amdt 5C.
21-Jun-18 | OH | Urbana | Grimes Field | 8/7455 | 4/23/18 | RNAV (GPS) RWY 2, Amdt 1.
21-Jun-18 | OH | Urbana | Grimes Field | 8/7456 | 4/23/18 | RNAV (GPS) RWY 20, Amdt 1.
21-Jun-18 | MI | Linden | Prices | 8/8225 | 4/23/18 | RNAV (GPS) RWY 9, Amdt 1.
21-Jun-18 | MI | Linden | Prices | 8/8227 | 4/23/18 | RNAV (GPS) RWY 27, Amdt 1.
21-Jun-18 | MI | Linden | Prices | 8/8228 | 4/23/18 | VOR-A, Orig-A.
21-Jun-18 | TX | Amarillo | Rick Husband Amarillo Intl | 8/8443 | 4/23/18 | Takeoff Minimums and Obstacle DP, Amdt 1.
21-Jun-18 | TN | Columbia/Mount Pleasant | Maury County | 8/9094 | 4/23/18 | Takeoff Minimums and Obstacle DP, Amdt 3.
21-Jun-18 | MA | Westfield/Springfield | Westfield-Barnes Rgnl | 8/9142 | 4/23/18 | Takeoff Minimums and Obstacle DP, Amdt 4A.
21-Jun-18 | NC | Washington | Washington-Warren | 8/9809 | 4/23/18 | VOR/DME RWY 5, Amdt 3A.
21-Jun-18 | NE | Scottsbluff | Western Nebraska Rgnl/William B Heilig Field | 8/9815 | 4/23/18 | RNAV (GPS) RWY 5, Amdt 1A.
21-Jun-18 | AL | Guntersville | Guntersville Muni—Joe Starnes Field | 8/9817 | 4/23/18 | RNAV (GPS) RWY 7, Orig.

[FR Doc. 2018-10817 Filed 5-22-18; 8:45 am]

BILLING CODE 4910-13-P